INTERNATIONAL TRADE COMMISSION

[Investigation No. 337-TA-966]

Certain Silicon-on-Insulator Wafers; Commission Determination Not To Review an Initial Determination Granting an Unopposed Motion for Termination of the Investigation Based on Withdrawal of the Complaint; Termination of the Investigation

AGENCY: U.S. International Trade Commission.

ACTION: Notice.

SUMMARY: Notice is hereby given that the U.S. International Trade Commission has determined not to review an initial determination (“ID”) (Order No. 16) granting an unopposed motion to terminate the investigation in whole based on complainant's withdrawal of the complaint.

FOR FURTHER INFORMATION CONTACT: Lucy Grace D. Noyola, Office of the General Counsel, U.S. International Trade Commission, 500 E Street SW., Washington, DC 20436, telephone 202-205-3438. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on September 24, 2015, based on a complaint filed by Silicon Genesis Corp. of San Jose, California (“Complainant”). 80 FR 57641 (Sept. 24, 2015). The complaint, as amended, alleges violations of section 337 of the Tariff Act of 1930, as amended, 19 U.S.C. 1337, in the importation into the United States, the sale for importation, and/or the sale within the United States after importation of certain silicon-on-insulator wafers by reason of infringement of certain claims of U.S. Patent Nos. 5,985,742; 6,180,496; 6,294,814; 6,790,747; 7,811,901; 6,013,563 (“the '563 patent”); 6,162,705 (“the '705 patent”); and 6,103,599 (“the '599 patent”). Id. The notice of investigation names as a respondent Soitec S.A., Parc Technologique des Fontaines of Bernin, France (“Respondent”). Id. The Office of Unfair Import Investigations (“OUII”) also was named as a party to the investigation. Id. Subsequently, the investigation was partially terminated as to several patent claims, leaving only asserted claim 1 of the '563 patent; claim 1 of the '705 patent; and claims 1 and 15 of the '599 patent remaining in the investigation. See Notice (Feb. 25, 2016) (determining not to review Order No. 7 (Jan. 22, 2016)); Notice (Mar. 1, 2016) (determining not to review Order No. 8 (Feb. 2, 2016)); Notice (May 4, 2016) (determining not to review Order No. 12 (Apr. 5, 2016)); Notice (May 31, 2016) (determining not to review Order No. 14 (May 5, 2016)).

On May 18, 2016, Complainant filed an unopposed motion to terminate the investigation in whole based on its withdrawal of the complaint. On May 20, 2016, OUII filed a response, supporting the motion.

On May 20, 2016, the presiding administrative law judge (“ALJ”) issued an ID (Order No. 16) granting the motion. The ALJ found no extraordinary circumstances preventing termination of the investigation and further found that termination was in the public interest. No petitions for review of the ID were filed.

The Commission has determined not to review the subject ID.

The authority for the Commission's determination is contained in section 337 of the Tariff Act of 1930, as amended (19 U.S.C. 1337), and in Part 210 of the Commission's Rules of Practice and Procedure (19 CFR part 210).

By order of the Commission.
Issued: June 15, 2016.
Lisa R. Barton,
Secretary to the Commission.

[FR Doc. 2016-14593 Filed 6-20-16; 8:45 am]

BILLING CODE 7020-02-P